DEPARTMENT OF TRANSPORTATION

Federal Aviation Administration

14 CFR Part 39

[Docket No. 2000-NM-336-AD; Amendment 39-12332; AD 2001-14-21]

RIN 2120-AA64

Airworthiness Directives; Aerospatiale Model ATR42-200, -300, -320, and -500 Series Airplanes, and Model ATR72 Series Airplanes

AGENCY: Federal Aviation Administration, DOT.

ACTION: Final rule.

SUMMARY: This amendment adopts a new airworthiness directive (AD), applicable to certain Aerospatiale Model ATR42-200, -300, -320, and -500 series airplanes and Model ATR72 series airplanes, that requires temporarily revising the Airplane Flight Manual (AFM) to add tests of the engine fire protection system and conducting those tests prior to each flight. This amendment also requires replacement of defective engine fire handles with serviceable fire handles, which terminates the revision of the AFM and the repetitive tests of the engine fire protection system. These actions are necessary to prevent intermittent improper functioning of the engine fire handles, due to a machining defect of the control shaft bore guide, which could result in malfunction of the trigger (squib), and failure to activate one of the two engine fire extinguishers. This action is intended to address the identified unsafe condition.

DATES: Effective August 28, 2001.

The incorporation by reference of certain publications listed in the regulations is approved by the Director of the Federal Register as of August 28, 2001.

ADDRESSES: The service information referenced in this AD may be obtained from Aerospatiale, 316 Route de Bayonne, 31060 Toulouse, Cedex 03, France. This information may be examined at the Federal Aviation Administration (FAA), Transport Airplane Directorate, Rules Docket, 1601 Lind Avenue, SW., Renton, Washington; or at the Office of the Federal Register, 800 North Capitol Street, NW., suite 700, Washington, DC.

FOR FURTHER INFORMATION CONTACT: Dan Rodina, Aerospace Engineer, International Branch, ANM-116, FAA, Transport Airplane Directorate, 1601 Lind Avenue, SW., Renton, Washington 98055-4056; telephone (425) 227-2125; fax (425) 227-1149.

SUPPLEMENTARY INFORMATION: A proposal to amend part 39 of the Federal Aviation Regulations (14 CFR part 39) to include an airworthiness directive (AD) that is applicable to all Aerospatiale Model ATR42-200, -300, -320, and -500 series airplanes and all Model ATR72 series airplanes was published in the Federal Register on March 29, 2001 (66 FR 17101). That action proposed to require temporarily revising the Airplane Flight Manual (AFM) to add tests of the engine fire protection system and conducting those tests prior to each flight. That action also proposed to require replacement of defective engine fire handles with serviceable fire handles, which would terminate the revision of the AFM and the repetitive tests of the engine fire protection system.

Comments

Interested persons have been afforded an opportunity to participate in the making of this amendment. Due consideration has been given to the comments received.

Change Applicability

One commenter asks that the applicability section, as specified in the proposed rule, be changed to exclude airplanes that do not have the affected engine fire handles, or that have already complied with the proposed rule. The commenter provides specific serial numbers for the affected airplanes and part numbers for the engine fire handles.

The FAA concurs that the applicability as specified in the final rule can be changed to some extent; however, it would be confusing to operators to list all the part numbers and serial numbers not affected by the final rule. Therefore, we have changed the applicability to specify the following: Model ATR42-200, -300, -320, and -500 series airplanes equipped with Labinal engine fire handles, as listed in Avions de Transport Regional Service Bulletin ATR42-26-0023 Revision 1, dated September 14, 2000; and Model ATR72 series airplanes equipped with Labinal engine fire handles, as listed in ATR72-26-1014 Revision 1, dated September 14, 2000. We also have changed the preamble to specify “certain” airplanes instead of “all” airplanes.

Clarify Unsafe Condition

One commenter asks that the unsafe condition, as written in the proposed rule, be changed to describe how the problem could affect the operation of the fire extinguisher system. The commenter states the unsafe condition as written could be interpreted as a failure of the system to provide a source for extinguishing a fire in the engine zone. In the case of improper functioning of the fire handles, there is a potential to make contact with one of the two sets of switches. In the most serious situation, this could result in the malfunction of the trigger (squib) to activate one of the two engine fire extinguishers. The second fire extinguisher remains operative and can be triggered, provided it is still armed. The commenter adds that this is the reason for the pre-flight test of the trigger for the fire extinguisher system, and asks that the unsafe condition be clarified.

The FAA agrees with the commenter. The unsafe condition has been clarified in the applicable sections of the final rule.

Revised Service Information

The manufacturer has advised the FAA that, since the issuance of the proposed rule, it has issued Avions de Transport Regional Service Bulletin ATR42-26-0023, Revision 1, dated September 14, 2000 (for Aerospatiale Model ATR42 series airplanes); and Avions de Transport Regional Service Bulletin ATR72-26-1014, Revision 1, dated September 14, 2000 (for Model ATR72 series airplanes). The manufacturer requests that the final rule be revised to require accomplishment of the actions in accordance with these new revisions of the service bulletins.

The FAA agrees with the manufacturer's request. We have reviewed Revision 1 of these service bulletins, and find that they contain minor changes from the original versions (which were cited as the appropriate sources of service information for accomplishment of the actions in the proposed rule). Therefore, paragraphs (c) and (d) of the final rule have been revised to require accomplishment of the actions in accordance with Revision 1 of the applicable service bulletin due to minor changes in paragraphs 1.C.(2) and 1.C.(3) of the Planning Information specified. A note also has been added to give credit for inspections and repairs accomplished prior to the effective date of this AD in accordance with the original issue of the service bulletin.

Change Paragraph (a)

One commenter asks that the wording in paragraph (a) of the proposed rule be changed from “* * * may be accomplished * * *” to “* * * will be accomplished * * *.” The commenter states that the repetitive tests of the engine fire protection system are covered by inserting a copy of the AD into the Normal Procedures section of the AFM. The commenter adds that since this is temporary mandated action until accomplishment of the terminating action, no specific temporary revision of the AFM is required.

The FAA does not agree. Inserting this AD into the AFM is one way to comply with the final rule requirements. However, the operator has the option of accomplishing the terminating action specified in paragraph (c) of the final rule instead of accomplishing the temporary revision specified in paragraph (a) of the final rule. No change to the final rule is necessary in this regard.

Withdraw Proposed Rule

One commenter asks that the proposed rule be withdrawn. The commenter states that all its affected airplanes have already complied with the requirements of the proposed AD. Therefore, the commenter requests that the FAA withdraw the proposed AD.

The FAA does not agree. We acknowledge that the manufacturer has stated that all the actions have been accomplished on all U.S.-registered airplanes, as specified in Labinal Special Inspection Service Bulletin 26-26-11-001, dated June 2000 (one source of service information specified in the final rule). However, if a U.S. operator were to purchase an airplane that does not have a U.S. registration, there would not be a U.S. AD to mandate the required actions. We have determined that it is necessary to issue a final rule to prevent an inadvertent installation of an engine fire handle having part number (P/N) 19-51-41 or P/N 19-51-51 and having a serial number listed in paragraph 1.C.(2) of the Planning Information of Avions de Transport Regional Service Bulletin ATR42-26-0023, dated July 7, 2000, or Revision 1, dated September 14, 2000 (for ATR42 series airplanes); or ATR72-26-1014, dated July 7, 2000, or Revision 1, dated September 14, 2000 (for Model ATR72 series airplanes). Therefore, no change to the final rule is necessary.

Conclusion

After careful review of the available data, including the comments noted above, the FAA has determined that air safety and the public interest require the adoption of the rule with the changes described previously. The FAA has determined that these changes will neither increase the economic burden on any operator nor increase the scope of the AD.

Cost Impact

The FAA estimates that 69 airplanes of U.S. registry will be affected by this AD.

It will take approximately 1 work hour per airplane to accomplish the temporary revision of the AFM, at an average labor rate is $60 per work hour. Based on these figures, the cost impact of the temporary revision of the AFM on U.S. operators is estimated to be $4,140, or $60 per airplane.

It will take approximately 1 work hour per airplane to accomplish the pre-flight test of the engine fire protection system, at an average labor cost of $60. Based on these figures, the cost impact of the test on U.S. operators is estimated to be $4,140, or $60 per airplane, per test.

It will take approximately 2 work hours per airplane to accomplish the inspection for defective engine fire handles, at an average labor cost of $60. Based on these figures, the cost impact of the inspection on U.S. operators is estimated to be $8,280, or $120 per airplane.

The cost impact figures discussed above are based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2001-14-21 Aerospatiale: Amendment 39-12332. Docket 2000-NM-336-AD.

Applicability: Model ATR42-200, -300, -320, and -500 series airplanes equipped with Labinal engine fire handles, as listed in Avions de Transport Regional Service Bulletin ATR42-26-0023, Revision 1, dated September 14, 2000; and Model ATR72 series airplanes equipped with Labinal engine fire handles, as listed in ATR72-26-1014, Revision 1, dated September 14, 2000; certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (e) of this AD. The request should include an assessment of the effect of the modification, alteration, or repair on the unsafe condition addressed by this AD; and, if the unsafe condition has not been eliminated, the request should include specific proposed actions to address it.

To prevent improper function of the engine fire handles, due to a machining defect of a control shaft bore guide, which could result in malfunction of the squib (trigger), and failure to activate one of the two engine fire extinguishers, accomplish the following:

Temporary Revision of the Aircraft Flight Manual (AFM)

(a) Within 10 days from the effective date of this AD: Revise the Normal Procedures section of the FAA-approved AFM by inserting the following. This may be accomplished by inserting a copy of this AD into the AFM.

“Before each flight

Engine 2 fire protection

Depress SQUIB TEST pushbutton and check that both AGENT SQUIB lights illuminate.

Engine 1 fire protection

Depress SQUIB TEST pushbutton and check that both AGENT SQUIB lights illuminate.”

Test of Engine Fire Protection System

(b) After accomplishing paragraph (a) of this AD and prior to each flight thereafter: Perform a test of the engine fire protection system, in accordance with the temporary revision of the AFM specified in paragraph (a) of this AD, until accomplishment of paragraph (c) of this AD.

Terminating Action

(c) Within 21 months from the effective date of this AD: Remove the engine fire handles and inspect them to determine the serial number, in accordance with Avions de Transport Regional Service Bulletin ATR42-26-0023, Revision 1, dated September 14, 2000 (for Aerospatiale Model ATR42 series airplanes); or ATR72-26-1014, Revision 1, dated September 14, 2000 (for Model ATR72 series airplanes); and accomplish paragraph (c)(1) or (c)(2) of this AD, as applicable.

(1) For any engine fire handle having a serial number listed in paragraph 1.C.(2) of the Planning Information of the applicable service bulletin that is not excepted: Perform the Labinal Special Inspection Service Bulletin 26-26-11-001, dated June 2000.

(2) For any engine fire handle having a serial number identified in paragraph 1.C.(2) of the Planning Information of the applicable service bulletin that is excepted: Re-install the fire handles, in accordance with the applicable service bulletin.

Note 2: Inspections and repairs accomplished prior to the effective date of this AD in accordance with Avions de Transport Regional Service Bulletin ATR42-26-0023, dated July 7, 2000, or ATR72-26-1014, dated July 7, 2000, are considered acceptable for compliance with the applicable action specified in this amendment.

Note 3: After accomplishment of paragraph (c)(1) or (c)(2) of this AD, the temporary revision to the AFM required by paragraph (a) of this AD may be removed from the AFM, and the pre-flight tests of the engine fire protection system required by paragraph (b) of this AD may be discontinued.

Spare Parts

(d) As of the effective date of this AD, no person may install an engine fire handle having part number (P/N) 19-51-41 or P/N 19-51-51 and having a serial number that is not excepted, as listed in paragraph 1.C.(2) of the Planning Information of Avions de Transport Regional Service Bulletin ATR42-26-0023, Revision 1, dated September 14, 2000 (for ATR42 series airplanes); or ATR72-26-1014, Revision 1, dated September 14, 2000 (for Model ATR72 series airplanes); unless the engine fire handle has been inspected and repaired in accordance with the applicable service bulletin.

Alternative Methods of Compliance

(e) An alternative method of compliance or adjustment of the compliance time that provides an acceptable level of safety may be used if approved by the Manager, International Branch, ANM-116, Transport Airplane Directorate, FAA. Operators shall submit their requests through an appropriate FAA Principal Maintenance Inspector, who may add comments and then send it to the Manager, International Branch, ANM-116.

Note 4: Information concerning the existence of approved alternative methods of compliance with this AD, if any, may be obtained from the International Branch, ANM-116.

Special Flight Permits

(f) Special flight permits may be issued in accordance with sections 21.197 and 21.199 of the Federal Aviation Regulations (14 CFR 21.197 and 21.199) to operate the airplane to a location where the requirements of this AD can be accomplished.

Incorporation by Reference

(g) Except as provided by paragraphs (a) and (b) of this AD: The actions shall be done in accordance with Avions de Transport Regional Service Bulletin ATR42-26-0023, Revision 1, dated September 14, 2000; Avions de Transport Regional Service Bulletin ATR72-26-1014, Revision 1, dated September 14, 2000; or Labinal Special Inspection Service Bulletin 26-26-11-001, dated June 2000; as applicable. This incorporation by reference was approved by the Director of the Federal Register in accordance with 5 U.S.C. 552(a) and 1 CFR part 51. Copies may be obtained from Aerospatiale, 316 Route de Bayonne, 31060 Toulouse, Cedex 03, France. Copies may be inspected at the FAA, Transport Airplane Directorate, 1601 Lind Avenue, SW., Renton, Washington; or at the Office of the Federal Register, 800 North Capitol Street, NW., suite 700, Washington, DC.

Note 5: The subject of this AD is addressed in French airworthiness directives 2000-282-050(B) and 2000-281-078(B), both with an effective date of July 8, 2000.

Effective Date

(h) This amendment becomes effective on August 28, 2001.

Issued in Renton, Washington, on July 12, 2001.
Vi L. Lipski,
Manager, Transport Airplane Directorate, Aircraft Certification Service.

[FR Doc. 01-18018 Filed 7-23-01; 8:45 am]

BILLING CODE 4910-13-P